DEPARTMENT OF ENERGY

Federal Energy Regulatory Commission

[Project No. 13-023]

Green Island Power Authority; Notice of Application Tendered for Filing With the Commission and Establishing Procedural Schedule for Licensing and Deadline for Submission of Final Amendments

March 12, 2009.

Take notice that the following hydroelectric application has been filed with the Commission and is available for public inspection.

a. Type of Application: New major license.

b. Project No.: 13-023.

c. Date Filed: March 2, 2009.

d. Applicant: Green Island Power Authority.

e. Name of Project: Green Island Hydroelectric Project.

f. Location: The existing project is located on the Hudson River in Albany County, New York. The project would occupy Federal land managed by the U.S. Army Corps of Engineers.

g. Filed Pursuant to: Federal Power Act 16 U.S.C. 791(a)-825(r).

h. Agent Contact: James A. Besha, President, Albany Engineering Corporation, 5 Washington Square, Albany, NY 12205; (518) 456-7712.

i. FERC Contact: Tom Dean, (202) 502-6041.

j. This application is not ready for environmental analysis at this time.

k. Project Description: The existing Green Island Project utilizes the U.S. Army Corps of Engineers (Corps) Green Island-Troy lock and dam that consists of: (1) A dam with a main spillway with a fixed crest elevation of 14.33 feet mean sea level (msl); and (2) an auxiliary spillway with a crest elevation of 16.33 feet msl.

The Green Island Project consists of: (1) 2-foot-high pneumatic flashboards along the top of the main spillway with a crest elevation of 16.33 feet msl; (2) a 700-acre impoundment with a normal water surface elevation of 16.33 feet msl; (3) a bulkhead and forebay structure located downstream and at the west end of the Corps dam; (4) a powerhouse containing four 1.5 megawatt (MW) generating units with a total installed capacity of 6.0 MW; (5) a 34.5 kilovolt underground transmission cable; and (6) appurtenant facilities.

Green Island Power Authority proposes to: (1) Lower the existing main spillway to a crest elevation of 12.5 feet msl, and install new hydraulically operated crest gates with a maximum crest gate elevation of 18.5 feet msl; (2) install a new trash boom extending across and upstream of the forebay; (3) construct a new bulkhead structure equipped with a new 300-foot-wide, 300-foot-long fish protection system screen; and (4) expand the existing powerhouse to the east and west and install four new 6.0 MW generating units, and replace the four existing generating units with four new 6.0 MW generating units with a total installed capacity of 48 MW.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: The application will be processed according to the following Hydro Licensing Schedule. Revisions to the schedule may be made as appropriate.

Milestone | Target date
Notice of Acceptance and Ready for Environmental Analysis | May 1, 2009.
Filing interventions, comments, recommendations, preliminary terms and conditions, and fishway prescriptions | June 30, 2009.
Notice of availability of the EA | October 28, 2009.
Filing comments on EA | November 27, 2009.
Filing modified terms and conditions | January 26, 2010.

o. Final amendments to the application must be filed with the Commission no later than 30 days from the issuance date of the notice of ready for environmental analysis.

Kimberly D. Bose,
Secretary.

[FR Doc. E9-6071 Filed 3-19-09; 8:45 am]

BILLING CODE